NUCLEAR REGULATORY COMMISSION

10 CFR Parts 50 and 52

[Docket No. PRM-50-118; NRC-2019-0071]

Measurement Standards Used at U.S. Nuclear Power Plants; Correction

AGENCY: Nuclear Regulatory Commission.

ACTION: Petition for rulemaking; correction.

SUMMARY: The U.S. Nuclear Regulatory Commission (NRC) is correcting a notice that was published in the Federal Register (FR) on May 15, 2019, regarding the receipt of a petition for rulemaking from Michael Taylor, dated December 3, 2018, as amended on January 24, 2019. This action is necessary to correct a Docket ID and telephone number.

DATES: The correction is effective July 15, 2019.

ADDRESSES: Please refer to Docket ID NRC-2019-0071 when contacting the NRC about the availability of information regarding this document. You may obtain publicly-available information related to this document using any of the following methods:

• Federal Rulemaking Website: Go to https://www.regulations.gov and search for Docket ID NRC-2019-0071. Address questions about NRC dockets to Carol Gallagher; telephone: 301-415-3463; email: Carol.Gallagher@nrc.gov. For technical questions, contact the individual listed in the FOR FURTHER INFORMATION CONTACT section of this document.

• NRC's Agencywide Documents Access and Management System (ADAMS): You may obtain publicly-available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to pdr.resource@nrc.gov.

FOR FURTHER INFORMATION CONTACT: Solomon Sahle, U.S. Nuclear Regulatory Commission, Washington, DC 20555-0001; telephone: 301-415-3781; email: Solomon.Sahle@nrc.gov.

SUPPLEMENTARY INFORMATION: In the FR on May 15, 2019 (84 FR 21727), correct the Docket ID “Docket ID NRC-2019-0084” to “Docket ID NRC-2019-0071” and the telephone number from “301-415-3407” to “301-415-3781.”

Dated at Rockville, Maryland, this 9th day of July 2019.
For the Nuclear Regulatory Commission.
Cindy K. Bladey,
Federal Register Liaison Officer, Division of Rulemaking, Office of Nuclear Material Safety and Safeguards.

[FR Doc. 2019-14896 Filed 7-12-19; 8:45 am]

BILLING CODE 7590-01-P